DEPARTMENT OF HEALTH AND HUMAN SERVICES

Meeting of the Presidential Advisory Council on HIV/AIDS

AGENCY: Department of Health and Human Services, Office of the Secretary, Office of the Assistant Secretary for Health.

ACTION: Notice.

SUMMARY: As stipulated by the Federal Advisory Committee Act, the U.S. Department of Health and Human Service is hereby giving notice that the Presidential Advisory Council on HIV/AIDS (PACHA or the Council) will be holding a meeting and will discuss recommendations regarding programs, policies, and research to promote effective, prevention, treatment and cure of HIV disease and AIDS. The meeting will be open to the public.

DATES: The Council meeting is scheduled to convene on March 14-15, 2019 from 9:00 a.m. to approximately 5:00 p.m. (ET) on March 14 and from 9:00 a.m. to 1:00 p.m. (ET) on March 15. Please note that on March 14, the meeting will include a closed session from 9:00 a.m. to 12:00 p.m. This portion of the meeting will be closed for administrative briefings to be presented to the new Council members. The meeting will be open to the public from 1:00 p.m. to 5:00 p.m. on March 14 and from 9:00 a.m.-1:00 p.m. (ET) on March 15.

ADDRESSES: 200 Independence Avenue SW, Washington, DC 20201 in the Penthouse (eighth floor), Room 800.

FOR FURTHER INFORMATION CONTACT: Ms. Caroline Talev, Public Health Analyst, Presidential Advisory Council on HIV/AIDS, 330 C Street SW, Room L106B, Washington, DC 20024; (202) 795-7622 or Caroline.Talev@hhs.gov. More detailed information about PACHA can be obtained by accessing the Council's page on the HIV.gov site at www.hiv.gov/pacha.

SUPPLEMENTARY INFORMATION: PACHA was established by Executive Order 12963, dated June 14, 1995, as amended by Executive Order 13009, dated June 14, 1996 and is currently operating under the authority given in Executive Order 13811, dated September 29, 2017. The Council was established to provide advice, information, and recommendations to the Secretary regarding programs and policies intended to promote effective prevention and care of HIV infection and AIDS. The functions of the Council are solely advisory in nature.

The Council consists of not more than 25 members. Council members are selected from prominent community leaders with particular expertise in, or knowledge of, matters concerning HIV and AIDS, public health, global health, philanthropy, marketing or business, as well as other national leaders held in high esteem from other sectors of society. Council members are appointed by the Secretary or designee, in consultation with the White House. The agenda for the upcoming meeting will be posted on the HIV.gov website at https://www.hiv.gov/federal-response/pacha/about-pacha.

Public attendance at the meeting is limited to space available. Individuals who plan to attend and need special assistance, such as sign language interpretation or other reasonable accommodations, should notify Caroline Talev at Caroline.Talev@hhs.gov. Due to space constraints, pre-registration for public attendance is advisable and can be accomplished by contacting Caroline Talev at Caroline.Talev@hhs.gov by close of business on Thursday, March 7, 2019. Members of the public will have the opportunity to provide comments during the meeting. Comments will be limited to two minutes per speaker. Any individual who wishes to participate in the public comment session must register with Caroline Talev at Caroline.Talev@hhs.gov by close of business on Thursday, March 7, 2019; registration for public comment will not be accepted by telephone. Individuals are encouraged to provide a written statement of any public comment(s) for accurate minute taking purposes. Public comment will be limited to two minutes per speaker. Any members of the public who wish to have printed material distributed to PACHA members at the meeting are asked to submit, at a minimum, 1 copy of the material(s) to Caroline Talev, no later than close of business on Thursday, March 7, 2019.

Dated: November 27, 2018.
B. Kaye Hayes,
Executive Director, Presidential Advisory Council on HIV/AIDS.

[FR Doc. 2018-26568 Filed 12-6-18; 8:45 am]

BILLING CODE 4150-43-P